FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 27, 2007.

A. Federal Reserve Bank of St. Louis (Glenda Wilson, Community Affairs Officer) 411 Locust Street, St. Louis, Missouri 63166-2034:

1. McLane Family Control Group, Poplar Bluff, Missouri, consisting of Joseph T. McLane, Jana McLane Brown, Jerri Ann McLane, the Norma McLane Smith Revocable Trust, Norma McLane Smith as trustee of Trust, and the Midwest Bancorporation, Inc. and Affiliates Employee Stock Ownership Plan Trust Joseph T. McLane as trustee, all of Poplar Bluff, Missouri; to acquire additional voting shares of Midwest Bancorporation, Inc., Poplar Bluff, Missouri, and thereby indirectly acquire additional voting shares of First Midwest Bank of Dexter, Missouri and First Midwest Bank of the Ozarks, Piedmont, Missouri.

Board of Governors of the Federal Reserve System, November 7, 2007.
Robert deV. Frierson,
Deputy Secretary of the Board.

[FR Doc. E7-22105 Filed 11-9-07; 8:45 am]

BILLING CODE 6210-01-S